BUREAU OF CONSUMER FINANCIAL PROTECTION

Agency Information Collection Activities: Notice of Office of Management and Budget Approval of Information Collection Requirements

AGENCY: Bureau of Consumer Financial Protection.

ACTION: Notice of approval of information collection requirements.

SUMMARY: In accordance with the Paperwork Reduction Act of 1995 (PRA) and the Code of Federal Regulations, the Consumer Financial Protection Bureau (Bureau) is announcing Office of Management and Budget (OMB) approval of revised information collection requirements contained in a final rule published in the Federal Register on October 29, 2019, regarding Regulation C, Home Mortgage Disclosure. See the SUPPLEMENTARY INFORMATION section below for additional information about this OMB approval.

FOR FURTHER INFORMATION CONTACT: Documentation prepared in support of these information collection requests is available at www.reginfo.gov. Requests for additional information should be directed to Darrin King, PRA Officer, at (202) 435-9575, or email: CFPB_PRA@cfpb.gov. If you require this document in an alternative electronic format, please contact CFPB_Accessibility@cfpb.gov.

SUPPLEMENTARY INFORMATION: Under the PRA (44 U.S.C. 3501 et seq.) the Bureau may not conduct or sponsor, and, notwithstanding any other provision of law, a respondent is not required to respond to, an information collection unless it displays a currently valid OMB control number. On October 29, 2019, the Bureau published a final rule in the Federal Register titled “Home Mortgage Disclosure (Regulation C).” ¹ The final rule amends 12 CFR part 1003 (Regulation C), which implements the Home Mortgage Disclosure Act (HMDA). The Bureau's OMB control number for Regulation C is 3170-0008. This final rule revises the information collection requirements contained in Regulation C that were previously approved by OMB under that OMB control number as follows: (1) Extends for two years Regulation C's current temporary threshold of 500 open-end lines of credit for open-end institutional and transactional coverage, and (2) implements the new, separate Economic Growth, Regulatory Relief, and Consumer Protection Act ² partial exemptions that apply to some HMDA reporting requirements. Pursuant to 5 CFR 1320.11(h), the Bureau submitted the Final Rule with an information collection request (ICR) to OMB on October 17, 2019 and OMB approved this ICR on November 27, 2019. In accordance with the PRA and 5 CFR 1320.11(k), the Bureau hereby announces OMB approval of the revised information collection requirements as contained in the subject final rule which will be effective January 1, 2020.

¹ The Bureau issued the final rule for Regulation C on its website on October 10, 2019, https://www.consumerfinance.gov/policy-compliance/rulemaking/final-rules/. The Notice of Final Rulemaking was published in the Federal Register on October 29, 2019 (84 FR 57946), RIN 3170-AA76.

² Public Law 115-174, 132 Stat. 1296 (2018).

Dated: December 3, 2019.
Darrin King,
Paperwork Reduction Act Officer, Bureau of Consumer Financial Protection.

[FR Doc. 2019-26366 Filed 12-5-19; 8:45 am]

BILLING CODE 4810-AM-P